ENVIRONMENTAL PROTECTION AGENCY

[ER-FRL-8594-2]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146. An explanation of the ratings assigned to draft environmental impact statements (EISs) was published in FR dated April 17, 2009 (74 FR 17860).

Draft EISs

EIS No. 20090046, ERP No. D-BLM-L65566-OR, Timber Mountain Recreation Management Plan, Managing Off-Highway Vehicle (OHV), Medford District Office, Jackson County, OR.

Summary: EPA expressed environmental concerns about potential impacts to aquatic resources, sensitive plants and wildlife, and recommended additional implementation and adaptive management planning. Rating EC2.

EIS No. 20090108, ERP No. D-AFS-K65361-CA, Thom-Seider Vegetation Management and Fuels Reduction Project, To Respond to the Increasing Density and Fuels Hazard Evident along the Klamath River between Hamburg and Happy Camp, Klamath National Forest, Siskiyou County, CA.

Summary: EPA expressed environmental concerns about treatment prescriptions, naturally occurring asbestos, air quality, and climate change. Rating EC2.

Final EISs

EIS No. 20090121, ERP No. F-USN-E11067-NC, Navy Cherry Point Range Complex, Proposed Action is to Support and Conduct Current and Emerging Training and Research, Development, Testing and Evaluation (RDT&E) Activities, South Atlantic Bight, Cape Hatteras, NC.

Summary: EPA expressed environmental concerns about impacts to the marine environment from the deposition of expended training materials.

EIS No. 20090146, ERP No. F-COE-F35047-OH, Lorain Harbor Ohio Federal Navigation Project, Dredged Material Management Plan, Implementation, Lorain Harbor, Lorain County, Ohio.

Summary: EPA does not object to the proposed project.

Dated: June 2, 2009.
Robert W. Hargrove,
Director, NEPA Compliance Division, Office of Federal Activities.

[FR Doc. E9-13163 Filed 6-4-09; 8:45 am]

BILLING CODE 6560-50-P